DEPARTMENT OF COMMERCE

National Oceanic and Atmospheric Administration

[RTID 0648-XB124]

Western Pacific Fishery Management Council; Public Meeting

AGENCY: National Marine Fisheries Service (NMFS), National Oceanic and Atmospheric Administration (NOAA), Commerce.

ACTION: Notice of public meetings.

SUMMARY: The Western Pacific Fishery Management Council (Council) will hold meetings of its American Samoa Archipelago Fishery Ecosystem Plan (FEP) Advisory Panel (AP), Mariana Archipelago FEP-Guam AP, Non-commercial Fisheries Advisory Committee (NCFAC), Fishing Industry Advisory Committee (FIAC), Hawaii Archipelago FEP AP, and Mariana Archipelago FEP-Commonwealth of the Northern Mariana Islands (CNMI) AP to discuss and make recommendations on fishery management issues in the Western Pacific Region.

DATES: The American Samoa Archipelago FEP AP will meet on Tuesday, June 8, 2021 from 5 p.m.-7 p.m.; The NCFAC will meet on Wednesday, June 9, 2021 from 1 p.m.-4 p.m.; the Mariana Archipelago FEP-Guam AP will meet on Thursday, June 10, 2021, from 6:30 p.m. and 8:30 p.m.; the FIAC will meet on Thursday, June 10, 2021 from 1 p.m.-4 p.m.; the Hawaii Archipelago FEP AP will meet on Friday, June 11, 2021 from 9 a.m.-12 noon; and the Mariana Archipelago FEP-CNMI AP will meet on Saturday, June 12, 2021 from 9 a.m.-12 noon. All times listed are local island times except for the NCFAC and FIAC are Hawaii Standard Time.

For specific times and agendas, see SUPPLEMENTARY INFORMATION.

ADDRESSES: Each of the meetings will be held by web conference via Webex. Instructions for connecting to the web conference and providing oral public comments will be posted on the Council website at www.wpcouncil.org. For assistance with the web conference connection, contact the Council office at (808) 522-8220.

FOR FURTHER INFORMATION CONTACT: Kitty M. Simonds, Executive Director, Western Pacific Fishery Management Council; telephone: (808) 522-8220.

SUPPLEMENTARY INFORMATION: Public comment periods will be provided in the agendas. The order in which agenda items are addressed may change. The meetings will run as late as necessary to complete scheduled business.

Schedule and Agenda for the American Samoa FEP AP Meeting

Wednesday, June 8, 2021 from 5 p.m.-7 p.m. (American Samoa Standard Time)

1. Welcome and Introductions

2. Review of the Last AP Meeting and Recommendations

3. Council Issues

A. American Samoa bottomfish Update

B. Territory Bigeye Specifications

C. Gear and Release Requirements to Improve Post-Hooking Survivorship of Oceanic Whitetip Sharks in Longline Fisheries

4. American Samoa Reports

A. 2020 Annual Stock Assessment and Fishery Evaluation (SAFE) Report

B. Fisheries Research and Priorities

5. Report on American Samoa Archipelago FEP AP Plan Activities

6. Fishery Issues and Activities

7. Public Comment

8. Discussion and Recommendations

9. Other Business

Schedule and Agenda for the NCFAC Meeting

Wednesday, June 9, 2021 from 1 p.m.-4 p.m. (Hawaii Standard Time)

1. Welcome and Introductions

2. Review of Last NCFAC Meeting

3. Regional/National Non-Commercial Fishing Efforts

A. Regional Roundtable

B. National Recreational Fishing Summit 2022

C. Western Pacific Initiatives

4. 2020 Annual SAFE Report Non-Commercial Modules

A. Pelagic Fisheries

B. Update on Development of Non-Pelagic Non-Commercial MUS Module

C. Ecosystem Component Non-Commercial Species

5. Legislative Update

6. Monitoring and Management of Hawaii Non-Commercial Uku Fishery

7. Cultural Take of Green Sea Turtles

8. Public Comment

9. Discussion and Recommendations

10. Other Business

Schedule and Agenda for the Mariana Archipelago FEP-Guam AP Meeting

Thursday, June 10, 2021, 6:30 p.m.-8:30 p.m. (Marianas Standard Time)

1. Welcome and Introductions

2. Review of the Last AP Meeting and Recommendations

3. Council Issues

A. Guam Bottomfish Update

B. Territory Bigeye Specifications

4. Guam Reports

A. 2020 Annual SAFE Report

B. Fisheries Research and Priorities

C. Shark Depredation Project Update

5. Report on Mariana Archipelago FEP Advisory Panel Plan Activities

6. Fishery Issues and Activities

7. Public Comment

8. Discussion and Recommendations

9. Other Business

Schedule and Agenda for the FIAC Meeting

Thursday, June 10, 2021 from 1 p.m.-4 p.m. (Hawaii Standard Time)

1. Welcome and Introductions

2. Status Report on March 2021 FIAC Recommendations

3. Hawaii Offshore Wind Energy

4. Offshore Aquaculture

A. Ewa Beach Offshore Aquaculture Proposal

B. Federal Offshore Aquaculture Management

5. Council Actions for 186th Meeting

A. Gear and Release Requirements to Improve Post-Hooking Survivorship of Oceanic Whitetip Sharks in the Longline Fisheries

B. Bigeye Tuna Catch Limit and Allocation

C. Hawaii Update to the Deep 7 Bottomfish Annual Catch Limits

D. Developing Draft Tori Line Specifications for the Hawaii Deep-Set Longline Fishery

6. Hawaii Legislative Report

7. Marianas Shark Depredation Project

8. MAFAC Seafood Recommendations

9. ESA Issues

A. Consultations Updates

B. Shortfin Mako ESA Listing Petition

10. Other Issues

11. Public Comment

12. Discussion and Recommendations

Schedule and Agenda for the Hawaii Archipelago FEP AP Meeting

Friday, June 11, 2021, 9 a.m.-12 noon (Hawaii Standard Time)

1. Welcome and Introductions

2. Review of the Last AP Meeting and Recommendations

3. Council Issues

A. Main Hawaiian Islands Deep 7 Bottomfish ACL Specification

B. Monitoring the Hawaii Uku Fishery

C. Gear and Release Requirements to Improve Post-Hooking Survivorship of Oceanic Whitetip Sharks in the Longline Fisheries

D. Developing Draft Tori Line Specifications for the Hawaii Deep-Set Longline Fishery

E. Pelagic Issues Updates

4. Offshore Wind Energy

A. Progression Energy Fact Finding

B. Discussion on Fishery Impacts from Offshore Wind Energy

5. Hawaii Reports

A. 2020 Annual SAFE Reports

B. Fisheries Research and Priorities

C. Potential Native Hawaiian Fisheries Training and Cultural Sea Turtle Take

6. Report on Hawaii Archipelago FEP AP Plan Activities

7. Fishery Issues and Activities

8. Public Comment

9. Discussion and Recommendations

10. Other Business

Schedule and Agenda for the Mariana Archipelago FEP-CNMI AP Meeting

Saturday, June 12, 2021, 9 a.m.-12 noon (Marianas Standard Time)

1. Welcome and Introductions

2. Review of the Last AP Meeting and Recommendations

3. Council Issues

A. Guam Bottomfish Update

B. Territory Bigeye Specifications

4. CNMI Reports

A. 2020 Annual SAFE Report

B. Fisheries Research and Priorities

C. Shark Depredation Project Update

5. Report on Mariana Archipelago FEP AP Plan Activities

6. Fishery Issues and Activities

7. Public Comment

8. Discussion and Recommendations

9. Other Business

Special Accommodations

These meetings are physically accessible to people with disabilities. Requests for sign language interpretation or other auxiliary aids should be directed to Kitty M. Simonds, (808) 522-8220 (voice) or (808) 522-8226 (fax), at least 5 days prior to the meeting date.

Authority: 16 U.S.C. 1801 et seq.

Dated: May 20, 2021.
Diane M. DeJames-Daly,
Acting Deputy Director, Office of Sustainable Fisheries, National Marine Fisheries Service.

[FR Doc. 2021-10980 Filed 5-24-21; 8:45 am]

BILLING CODE 3510-22-P